DEPARTMENT OF STATE

[Public Notice 6647]

Determination Related to Serbia Under Section 7072(c) of the Department of State, Foreign Operations, and Related Programs Appropriations Act, 2009 (Div. H, Pub. L. 111-8)

Pursuant to the authority vested in me as Secretary of State, including under section 7072(c) of the Department of State, Foreign Operations, and Related Programs Appropriations Act (SFOAA), 2009 (Div. H, Pub. L. 111-8), and the President's Delegation of Responsibilities Related to the Federal Republic of Yugoslavia, dated March 22, 2001, I hereby determine and certify that the Government of Serbia is:

(1) Cooperating with the International Criminal Tribunal for the former Yugoslavia including access for investigators, the provision of documents, timely information on the location, movement, and sources of financial support of indictees, and the surrender and transfer of indictees or assistance in their apprehension, including Ratko Mladic;

(2) taking steps that are consistent with the Dayton Accords to end Serbian financial, political, security, and other support which has served to maintain separate Republika Srpska institutions; and

(3) taking steps to implement policies which reflect a respect for minority rights and the rule of law.

This Determination and related Memorandum of Justification shall be provided to the appropriate committees of the Congress. This Determination shall be published in the Federal Register.

Dated: May 20, 2009.
Hillary Rodham Clinton,
Secretary of State, Department of State.

[FR Doc. E9-12663 Filed 5-29-09; 8:45 am]

BILLING CODE 4710-23-P